DEPARTMENT OF COMMERCE

National Oceanic and Atmospheric Administration

50 CFR Part 648

[I.D. 082602B]

New England Fishery Management Council; Public Hearings

AGENCY: National Marine Fisheries Service (NMFS), National Oceanic and Atmospheric Administration (NOAA), Commerce.

ACTION: Public hearings; request for comments.

SUMMARY: The New England Fishery Management Council (Council) will hold a series of public hearings to solicit comments on proposals to be included in the Skate Fishery Management Plan (FMP).

DATES: Written comments on the proposals will be accepted through October 15, 2002. The public hearings will begin on September 16, 2002, and end on October 1, 2002. See Public Hearings for specific hearing dates.

ADDRESSES: To obtain copies of the public hearing document or to submit comments, contact Paul J. Howard, Executive Director, New England Fishery Management Council, 50 Water Street, Mill 2, Newburyport, MA 01950. When submitting comments, identify correspondence as “Comments on Draft Skate FMP.” Hearings will be held in Massachusetts, New Hampshire, Rhode Island, and Delaware. Requests for special accommodations should be addressed to the New England Fishery Management Council, 50 Water Street, Mill 2, Newburyport, MA 01950; telephone: (978) 465-0492. For specific locations, see Public Hearings.

FOR FURTHER INFORMATION CONTACT: Paul J. Howard, (978) 465-0492.

SUPPLEMENTARY INFORMATION: The Council proposes to take action to implement a management program for the Northeast Region's skate complex and its associated fisheries and to address the requirements of the Magnuson-Stevens Fishery Conservation and Management Act, as amended by the Sustainable Fisheries Act of 1996. The Council will consider comments from fishermen, interested parties, and the general public on the proposals and alternatives described in the public hearing document for the Skate FMP. Once it has considered public comments, the Council will approve final management measures and prepare a submission package for NMFS. There will be an additional opportunity for public comment when the Notice of Availability and the proposed rule for the Skate FMP are published in the Federal Register.

Major elements of the proposals in this public hearing document include: (1) a Federal permit program for skate fishery participants; (2) modifications to reporting requirements for all federally-permitted vessels and dealers that allow for the collection of skate-specific fishery information; (3) identification of the fishing year and management unit for the skate complex; (4) requirement for a letter of authorization for vessel-to-vessel sales of skates for bait; (5) specification of rebuilding programs for overfished skate species; (6) selection of overfishing definitions for each species of skates; (7) designation of essential fish habitat (EFH) for each life history stage of the skate species; (8) prohibitions on the possession, landing, and/or sale of barndoor, thorny, and smooth skates; (9) development of a monitoring and adjustment mechanism for this plan including a framework adjustment process; (10) skate possession limits for the wing fishery; and (11) identification of management measures in other fisheries that benefit skates. The Council will consider all comments received on these proposals until the end of the comment period on October 15, 2002.

Public Hearings

The dates, times, locations, and telephone numbers of the public hearings are as follows:

Monday, September 16, 2002 at 6 p.m.-Whaling Museum, 18 Johnny Cake Hill, New Bedford, MA 02740; telephone: (508) 997-0046;

Tuesday, September 17, 2002 at 6 p.m.-Narragansett Town Hall, 5th Avenue, Narragansett, RI; telephone: (401) 789-1044;

Friday, September 20, 2002 at 10 a.m.-Provincetown Town Hall, 260 Commercial Street, Provincetown, MA 02657; telephone: (508) 487-7013;

Monday, September 23, 2002, at 6 p.m.-Sheraton Portsmouth, 250 Market Street, Portsmouth, NH 03801; telephone: (603) 431-2300; and

Tuesday, October 1, 2002 at 7 p.m.-Holiday Inn Select, 630 Naamans Road, Wilmington, DE 19703; telephone: (302) 791-4603.

Special Accommodations

These hearings are accessible to people with physical disabilities. Requests for sign language interpretation or other auxiliary aids should be directed to Paul J. Howard (see ADDRESSES) at least 5 days prior to the meeting dates.

Authority: 16 U.S.C. 1801 et. seq.

Dated: August 29, 2002.
Virginia M. Fay,
Acting Director, Office of Sustainable fisheries, National Marine Fisheries Service.

[FR Doc. 02-22522 Filed 8-29-02; 4:09 p.m.]

BILLING CODE 3510-22-S